FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 011962-016.

Agreement Name: Consolidated Chassis Management Pool Agreement.

Parties: Maersk A/S and Hamburg Sud (acting as a single party); CMA CGM S.A., APL Co. Pte. Ltd.; and American President Lines, Ltd. (acting as a single party); COSCO SHIPPING Lines Co., Ltd.; Evergreen Line Joint Service Agreement; Ocean Network Express Pte. Ltd.; Hapag Lloyd AG and Hapag Lloyd USA (acting as a single party); HMM Co., Ltd.; OOCL (USA) Inc.; MSC Mediterranean Shipping Co., S.A.; Zim Integrated Shipping Services Ltd.; Matson Navigation Company; Westwood Shipping Lines; and Yang Ming Marine Transport Corp.

Filing Party: Jeffrey Lawrence and Donald Kassilke; Cozen O'Connor.

Synopsis: The Amendment reflects changes to the name of Maersk Line A/S; Mediterranean Shipping Company S.A.; and Hyundai Merchant Marine Co., Ltd.

Proposed Effective Date: 7/28/2020.

Location: https://www2.fmc.gov/FMC.Agreements.Web/Public/AgreementHistory/454.

Dated: August 4, 2020.
Rachel Dickon,
Secretary.

[FR Doc. 2020-17342 Filed 8-7-20; 8:45 am]

BILLING CODE 6730-02-P